DEPARTMENT OF HEALTH AND HUMAN SERVICES

Indian Health Service

Catastrophic Health Emergency Fund (CHEF) Threshold

AGENCY: Indian Health Service, Department of Health and Human Services.

ACTION: Notice.

SUMMARY: This notice announces the Catastrophic Health Emergency Fund (CHEF) threshold established at $19,095 for Fiscal Year 2025 CHEF requests.

SUPPLEMENTARY INFORMATION: The Indian Health Service (IHS) administers the CHEF pursuant to section 202 of the Indian Health Care Improvement Act (IHCIA). The purpose of the CHEF is to meet the extraordinary medical costs associated with the treatment of victims of disasters or catastrophic illnesses who are within the responsibility of the Service. The CHEF was established by section 202 of the IHCIA, Public Law 94-437 (25 U.S.C. 1621a). The Patient Protection and Affordable Care Act, Public Law 111-148, as amended by the Health Care and Education Reconciliation Act of 2010, Public Law 111-152 (collectively, the Affordable Care Act or “the ACA”), reauthorized the IHCIA and amended the CHEF, directing the Secretary to promulgate regulations governing the administration of the CHEF. The final CHEF regulation (2024-19421 (89 FR 70527)) was published on August 30, 2024, in the Federal Register, establishing the threshold cost of $19,000 for Fiscal Year (FY) 2024. See 42 CFR 136.503(a). The threshold amount in subsequent years is calculated from the threshold amount of the previous year, and increased by the percentage increase in the medical care expenditure category of the Consumer Price Index for all urban consumers (United States city average) for the 12-month period ending with December of the previous year. See 42 CFR 136.503(b). The Consumer Price Index is released monthly. For FY 2025, “December of the previous year” is December 2023, because December 2024 is part of FY 2025. The “12-month period ending with December of the previous year” is therefore December 2022 to December 2023. The medical care expenditure category for this 12-month period was 0.5%, thereby increasing the threshold to $19,095 for FY 2025 CHEF requests.

Dated: October 30, 2025.
P. Benjamin Smith,
Acting Director, Indian Health Service.

[FR Doc. 2025-21314 Filed 11-25-25; 8:45 am]

BILLING CODE 4166-14-P